DEPARTMENT OF DEFENSE

Office of the Secretary

32 CFR Part 311

[Docket ID DOD-2012-OS-0027]

Privacy Act of 1974; Implementation; Correction

AGENCY: Office of the Secretary, DoD.

ACTION: Direct final rule with request for comments; correction.

SUMMARY: On March 16, 2012, the Department of Defense published a direct final rule titled Privacy Act of 1974; Implementation. This rule corrects a system identifier error in the amended text.

DATES: Effective May 25, 2012.

FOR FURTHER INFORMATION CONTACT: Patricia Toppings, (571) 372-0485.

SUPPLEMENTARY INFORMATION: On March 16, 2012, the Department of Defense published a direct final rule titled Privacy Act of 1974; Implementation. Subsequent to the publication of that direct final rule, Department of Defense discovered that the system identifier “DMDC 13” in § 311.8(c)(17) should have read “DMDC 11”.

Correction

In the final rule (FR Doc. 2012-6167) published on March 16, 2012 (77 FR 15587-15588), make the following correction:

§ 311.8 [Corrected]

On page 15588, in § 311.8, in the first column, in paragraph (c)(17), “DMDC 13, Investigative Records Repository” should read “DMDC 11, Investigative Records Repository”.

Dated: March 19, 2012.
Aaron Siegel,
Alternate OSD Federal Register Liaison Officer, Department of Defense.

[FR Doc. 2012-6925 Filed 3-21-12; 8:45 am]

BILLING CODE 5001-06-P